DEPARTMENT OF EDUCATION

2022-2023 Award Year Deadline Dates for Reports and Other Records Associated With the Free Application for Federal Student Aid (FAFSA), the Federal Supplemental Educational Opportunity Grant Program (FSEOG) Program, the Federal Work-Study (FWS) Program, the Federal Pell Grant (Pell Grant) Program, the William D. Ford Federal Direct Loan (Direct Loan) Program, the Teacher Education Assistance for College and Higher Education (TEACH) Grant Program, and the Iraq and Afghanistan Service Grant Program; Correction

AGENCY: Office of Federal Student Aid, Department of Education.

ACTION: Notice; correction.

SUMMARY: On June 1, 2022, the Department of Education (Department) published in the Federal Register a notice announcing the 2022-2023 Award Year deadline dates for reports and other records associated with the Free Application for Federal Student Aid (FAFSA), the Federal Supplemental Educational Opportunity Grant Program (FSEOG) Program, the Federal Work-Study (FWS) Program, the Federal Pell Grant (Pell Grant) Program, the William D. Ford Federal Direct Loan (Direct Loan) Program, the Teacher Education Assistance for College and Higher Education (TEACH) Grant Program, and the Iraq and Afghanistan Service Grant Program (Deadline Dates notice). We correct the Deadline Dates notice by removing references to the Federal verification requirement of high school completion status. All other information in the Deadline Dates notice remains the same.

DATES: This correction is applicable on July 5, 2022.

FOR FURTHER INFORMATION CONTACT: Michael Ruggless, Federal Student Aid, 830 First Street NE, Union Center Plaza, Room 114B4, Washington, DC 20202-5345. Telephone: (202) 377-4098. Email: Michael.Ruggless@ed.gov.

If you are deaf, hard of hearing, or have a speech disability and wish to access telecommunications relay services, please dial 7-1-1.

SUPPLEMENTARY INFORMATION: On September 1, 2021, the Department published in the Federal Register the Free Application for Federal Student Aid (FAFSA®) Information To Be Verified for the 2022-2023 Award Year notice (86 FR 49002), which announced the FAFSA information that an institution and an applicant may be required to verify, as well as the acceptable documentation for verifying FAFSA information. In that notice, the Department removed high school completion status as a verification item under the V4 and V5 tracking groups starting with the 2022-2023 FAFSA processing year. In the Deadline Dates notice (87 FR 33135), the Department should not have included high school completion status as a verification item under the V4 and V5 tracking groups starting with the 2022-2023 FAFSA processing year. Accordingly, the Department is removing references to verification of high school completion status in the Deadline Dates notice.

Program Authority: 20 U.S.C. 1070a, 1070b-1070b-4, 1070g, 1070h, 1087a-1087j, 1087aa-1087ii, and 1087-51-1087-58.

Corrections:

In FR Doc 2022-11721 appearing on pages 33135-33139 in the Federal Register of June 1, 2022 (87 FR 33135), we make the following corrections:

1. On page 33135, in the second column, in the Supplementary Information section, in the fifth paragraph, remove the words “and high school completion status”.

2. On page 33137, in the second column of Table A, under the heading “What is submitted?”, in the final paragraph, remove the words “and high school completion”.

3. On page 33137, in the fourth column of Table A, under the heading “What is the deadline date for receipt?”, in the final paragraph, remove the words “and high school completion”.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2022-14193 Filed 7-1-22; 8:45 am]

BILLING CODE 4000-01-P